ENVIRONMENTAL PROTECTION AGENCY

40 CFR Part 180

[EPA-HQ-OPP-2025-0153; FRL-12748-01-OCSPP]

RIN 2070-ZA16

Pesticide Tolerances; Implementing Registration Review Decisions for Certain Pesticides; Diphenylamine, et al

AGENCY: Environmental Protection Agency (EPA).

ACTION: Proposed rule.

SUMMARY: The Environmental Protection Agency (EPA or Agency) is proposing to implement several tolerance actions under the Federal Food, Drug, and Cosmetic Act (FFDCA) that the Agency previously determined were necessary or appropriate during the registration review conducted under the Federal Insecticide, Fungicide, and Rodenticide Act (FIFRA). During registration review, EPA reviews all aspects of a pesticide case, including existing tolerances, to ensure that the pesticide continues to meet the standard for registration under FIFRA. The pesticide tolerances and active ingredients addressed in this rulemaking are identified and discussed in detail in Unit III. of this document.

DATES: Comments must be received on or before July 21, 2025.

ADDRESSES: Submit your comments, identified by docket identification (ID) number EPA-HQ-OPP-2025-0153, through https://www.regulations.gov. Follow the online instructions for submitting comments. Do not submit electronically any information you consider to be Confidential Business Information (CBI) or other information whose disclosure is restricted by statute. Additional instructions on commenting or visiting the docket, along with more information about dockets generally, is available at https://www.epa.gov/dockets.

FOR FURTHER INFORMATION CONTACT: Caleb Carr, Pesticide Re-Evaluation Division (7508M), Office of Pesticide Programs, Environmental Protection Agency, 1200 Pennsylvania Ave. NW, Washington, DC 20460-0001; telephone number: (202) 566-0636; email address: carr.caleb@epa.gov.

SUPPLEMENTARY INFORMATION:

I. Executive Summary

A. Does this action apply to me?

You may be potentially affected by this action if you are an agricultural producer, food manufacturer, or pesticide manufacturer. The following list of North American Industrial Classification System (NAICS) codes is not intended to be exhaustive, but rather provides a guide to help readers determine whether this document might apply to them:

• Crop production (NAICS code 111).

• Animal production (NAICS code 112).

• Food manufacturing (NAICS code 311).

• Pesticide manufacturing (NAICS code 32532).

If you have any questions regarding the applicability of this proposed action to a particular entity, consult the person listed under FOR FURTHER INFORMATION CONTACT.

B. What action is the Agency taking?

EPA is proposing several tolerance actions that the Agency previously determined were necessary or appropriate during registration review of the pesticide active ingredients identified in Unit III. The tolerance actions for each pesticide active ingredient are described in Unit III. and may include but are not limited to the following types of actions:

• Revising tolerance expressions;

• Modifying commodity definitions;

• Updating crop groupings;

• Removing expired tolerances;

• Revoking tolerances that are no longer needed; and

• Harmonizing tolerances with the Codex Alimentarius Commission (Codex) Maximum Residue Levels (MRLs).

Although it may not have been identified in the registration review of a particular pesticide, this proposed rule reflects the Agency's 2019 adoption of the Organization of Economic Cooperation and Development (OECD) Rounding Class Practice. More information on the OECD Rounding Class Practice can be found at https://www.oecd.org/en/publications/mrl-calculator-users-guide-and-white-paper_9789264221567-en.html. Where applicable, these adjustments are proposed for specific pesticides as indicated in Unit III.

C. What is EPA's authority for taking this action?

Section 408(e) of the Federal Food, Drug and Cosmetic Act (FFDCA), 21 U.S.C. 346a(e), authorizes EPA to establish, modify, or revoke tolerances or exemptions from the requirement of a tolerance on its own initiative.

Under FIFRA section 3(g), 7 U.S.C. 136a(g), EPA is required to periodically review all registered pesticides and determine if those pesticides continue to meet the standard for registration under FIFRA. As part of the registration review of a pesticide, EPA also evaluates the existing tolerances and any tolerance changes identified as necessary or appropriate during registration review of a pesticide are summarized in the registration review decision documents for each pesticide active ingredient or registration review case (e.g., in the Proposed Interim Decision (PID), Proposed Final Decision (PFD), Interim Decision (ID) and Final Decision (FD)). These documents can be found in the public docket opened for each pesticide undergoing registration review. Additional information about pesticide registration review is available at https://www.epa.gov/pesticide-reevaluation.

Prior to issuing the final regulation, FFDCA section 408(e)(2) requires EPA to issue a notice of proposed rulemaking for a 60-day public comment period, unless the Administrator for good cause finds that it would be in the public interest to have a shorter period and states the reasons in the proposed rulemaking.

D. What should I consider as I prepare my comments for EPA?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR part 2.

2. Tips for preparing your comments. When preparing and submitting your comments, see the commenting tips at https://www.epa.gov/dockets/commenting-epa-dockets.

E. What can I do if I want the Agency to maintain a tolerance that the Agency proposes to revoke?

This proposed rule provides a 60-day public comment period that allows any person to state an interest in retaining a tolerance proposed for revocation. If EPA receives such a comment within the 60-day period, EPA will not proceed to revoke the tolerance immediately. However, EPA will take steps to ensure the submission of any needed supporting data and will issue an order in the Federal Register under FFDCA section 408(f), if needed. If the data are not submitted as required in the order, EPA will take appropriate action under FFDCA.

After considering comments that are received in response to this proposed rule, EPA will issue a final rule. At the time of the final rule, you may file an objection or request a hearing on the action taken in the final rule. If you fail to file an objection to the final rule within the time period specified in the final rule, you will have waived the right to raise any issues resolved in the final rule. After the filing deadline specified in the final rule, issues resolved in the final rule cannot be raised again in any subsequent proceedings.

II. Background

A. What is a tolerance?

A “tolerance” represents the maximum level for residues of a pesticide chemical legally allowed in or on food, which includes raw agricultural commodities and processed foods and feed for animals. Under the FFDCA, residues of a pesticide chemical that are not covered by a tolerance or exemption from the requirement of a tolerance are considered unsafe. See 21 U.S.C. 346a(a)(1). Foods containing unsafe residues are deemed adulterated and may not be distributed in interstate commerce. See 21 U.S.C. 331(a) and 342(a)(2)(B). Consequently, for a food-use pesticide (i.e., a pesticide use that is likely to result in residues in or on food) to be sold and distributed in the United States, the pesticide must not only have appropriate tolerances or exemptions under the FFDCA, but also must be registered under FIFRA. Food-use pesticides not registered in the United States must have tolerances or exemptions in order for commodities treated with those pesticides to be imported into the United States. For additional information about tolerances, go to https://www.epa.gov/pesticide-tolerances/about-pesticide-tolerances.

B. Why does EPA consider international residue limits?

When establishing a tolerance for residues of a pesticide, EPA must determine whether Codex has established a MRL for that pesticide. See 21 U.S.C. 346a(b)(4). Additionally, as part the registration review of a pesticide (see Unit II.C.), EPA determines whether Codex or other international MRLs exist for commodities and chemicals for which U.S. tolerances have been established. Where appropriate, EPA's intention is to harmonize U.S. tolerances with those international MRLs to facilitate trade. EPA's effort to harmonize with international MRLs is summarized in the tolerance reassessment section of the individual Human Health Draft Risk Assessments that support the pesticide registration review.

C. What is registration review?

Under FIFRA section 3(g), 7 U.S.C. 136a(g), EPA is required to periodically review all registered pesticides and determine if those pesticides continue to meet the standard for registration under FIFRA. See also 40 CFR 155.40(a). The registration review program is intended to make sure that, as the ability to assess risk evolves and as policies and practices change, all registered pesticides can continue to be used without causing unreasonable adverse effects on human health and the environment. As part of the registration review of a pesticide, EPA also evaluates whether existing tolerances are safe, whether any changes to existing tolerances are necessary or appropriate, and whether any new tolerances are necessary to cover residues from registered pesticides. In addition, any tolerance changes identified as necessary or appropriate during registration review of a pesticide are summarized in the registration review decision documents for each pesticide active ingredient or registration review case (e.g., in the Proposed Interim Decision (PID), Proposed Final Decision (PFD), Interim Decision (ID) and Final Decision (FD)). These documents can be found in the public docket that has been opened for each pesticide, which is available online at https://www.regulations.gov, using the docket ID number listed in Unit III. for each pesticide active ingredient included in this proposed action. Additional information about pesticide registration review is available at https://www.epa.gov/pesticide-reevaluation.

D. EPA's Safety Assessments

FFDCA section 408(b) authorizes EPA to establish a tolerance, if the Agency determines that a tolerance is safe; FFDCA section 408(c) authorizes EPA to establish an exemption from the requirement of a tolerance if the Agency determines that the exemption is safe. See 21 U.S.C. 346a(b) and (c). If EPA determines that a tolerance or exemption is not safe, EPA must modify or revoke that tolerance or exemption. The FFDCA defines “safe” to mean that “there is a reasonable certainty that no harm will result from aggregate exposure to the pesticide chemical residue, including all anticipated dietary exposures and all other exposures for which there is reliable information.” 21 U.S.C. 346a(b)(2)(A)(ii), (c)(2)(A)(ii). This includes exposure through drinking water and in residential settings but does not include occupational exposure. FFDCA section 408(b)(2)(C) requires EPA to give special consideration to the exposure of infants and children to the pesticide chemical residue in establishing a tolerance and to “ensure that there is a reasonable certainty that no harm will result to infants and children from aggregate exposure to the pesticide chemical residue[s.]” 21 U.S.C. 346a(b)(2)(C). In addition, FFDCA section 408(b)(2)(D) contains several factors EPA must consider when making determinations about establishing, modifying, or revoking tolerances. 21 U.S.C. 346a(b)(2)(D). FFDCA section 408(c)(2)(B) requires that EPA, when making determinations about exemptions, to take into account, among other things, the considerations set forth in FFDCA section 408(b)(2)(C) and (D). 21 U.S.C. 346a(c)(2)(B).

Furthermore, when establishing tolerances or exemptions from the requirement of a tolerance, FFDCA sections 408(b)(3) and (c)(3) require that there be a practical method for detecting and measuring pesticide chemical residue levels in or on food, unless in the case of exemptions, EPA determines that such method is not needed and states the reasons therefore in the rulemaking. 21 U.S.C. 346a(b) and (c).

Consistent with its obligations under FIFRA section 3(g), 7 U.S.C. 136a(g), and FFDCA section 408, 21 U.S.C. 346a, EPA has reviewed the available scientific data and other relevant information on toxicity and exposure of the individual chemicals represented in this rulemaking. As part of registration review, the Agency has published risk assessments detailing the risks from aggregate exposure, including to infants and children, for each of the pesticides represented herein. The chemical-specific toxicity and exposure analyses, which support the safety determinations contained in Unit III., can be found in the human health risk assessment documents and related registration review decision documents, which are available in the public docket that has been opened for each pesticide, as noted in Unit III.

After considering all available information, EPA has determined it is appropriate based on the underlying safety assessments to take the tolerance actions being proposed in this rulemaking and that adequate enforcement methodology as described in the supporting documents is available to enforce the tolerance expressions.

III. Proposed Tolerance Actions

EPA is proposing to take the specific tolerance actions identified in this unit. All tolerance values proposed in the regulatory text of this rulemaking, modified or otherwise, are being proposed to reflect current OECD rounding practices.

A. 40 CFR 180.190; Diphenylamine; Case 2210 (Docket ID No. EPA-HQ-OPP-2015-0749)

EPA is proposing to amend the current tolerances by:

• Revising the tolerance expression in paragraph (a) for diphenylamine to describe more clearly the scope or coverage of the tolerances and the method for measuring compliance. Consistent with EPA policy, the revised tolerance expression would clarify that (1) as provided in FFDCA section 408(a)(3), the tolerances cover residues of the pesticide chemical, including its metabolites and degradates; and (2) compliance with the specified tolerance levels is to be determined by measuring the specific compounds mentioned in the tolerance expression. The revisions to the tolerance expression would not substantively change the tolerances or, in any way, modify the permissible level of residues permitted by the tolerances.

• Revising the commodity definition in paragraph (a) from “Apple from preharvest or postharvest use, including use of impregnated wraps” to “Apple” and from “Pear (post-harvest)” to “Pear”. These revisions of commodity definitions will help facilitate efficient commodity searches and does not substantively change the tolerance or, in any way, modify the permissible level of residues in or on the commodity listed in the regulation.

• Revoking the tolerances from paragraph (a) for “Cattle, fat” at 0.01 ppm; “Cattle, liver” at 0.1 ppm; “Cattle, meat byproducts, except liver” at 0.01 ppm; “Cattle, meat” at 0.01 ppm; “Goat, fat” at 0.01 ppm; “Goat, liver” at 0.1 ppm; “Goat, meat byproducts, except liver” at 0.01 ppm; “Goat, meat” at 0.01 ppm; “Horse, fat” at 0.01 ppm; “Horse, liver” at 0.1 ppm; “Horse, meat byproducts, except liver” at 0.01 ppm; “Horse, meat” at 0.01 ppm; “Milk” at 0.01 ppm; “Sheep, fat” at 0.01 ppm; “Sheep, liver” at 0.1 ppm; “Sheep, meat byproducts, except liver” at 0.01 ppm; and “Sheep, meat” at 0.01 ppm. During Registration Review it was determined that these entries should be removed since the tolerances are no longer needed based on revised amounts of pomace in livestock diets.

• Modifying tolerances by removing trailing zeros to reflect current OECD rounding practices.

As discussed in Unit II.D, based on the supporting registration review documents, EPA has determined that the proposed amendments to the diphenylamine tolerances would be safe, i.e., there is a reasonable certainty that no harm will result to the general population, or specifically to infants and children, from aggregate exposure to diphenylamine residues. Adequate enforcement methodology is available.

B. 40 CFR 180.377; Diflubenzuron; Case 0144 (Docket ID No. EPA-HQ-OPP-2012-0714)

EPA is proposing to amend the current tolerances by:

• Establishing a new tolerance in paragraph (a)(1) for “Cotton, gin byproducts” at 30 ppm as supported by submitted residue data.

• Revising the commodity definitions in paragraph (a)(1) from “Soybean” to “Soybean, seed” and in paragraph (a)(2) from “Citrus, oil” to “Fruit, citrus, group 10-10, oil”. These revisions of commodity definitions will help facilitate efficient commodity searches and does not substantively change the tolerance or, in any way, modify the permissible level of residues in or on the commodity listed in the regulation.

• Modifying the tolerance value in paragraph (a)(1) for “Mushroom” from 0.2 ppm to 8 ppm as supported by submitted residue data.

• Updating existing crop group tolerances in paragraph (a)(2) for residues of diflubenzuron from “Brassica, leafy greens, subgroup 5B” to the updated crop group “Brassica, leafy greens, subgroup 4-16B”. The newly established “Brassica, leafy greens, subgroup 4-16B” will have an updated (harmonized) tolerance level of 10 ppm.

40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V (85 FR 70985, November 6, 2020 (FRL-10015-19)).

• EPA has identified opportunities to harmonize with Codex MRLs for diflubenzuron and is proposing to modify the tolerance values in paragraph (a)(1) for “Cattle, fat”, “Cattle, meat”, “Goat, fat”, “Goat, meat”, “Hog, fat”, “Hog, meat”, “Horse, fat”, “Horse, meat”, “Sheep, fat”, and “Sheep, meat” from 0.05 ppm to 0.1 ppm and in paragraph (a)(2) for the newly established crop group “Brassica, leafy greens, subgroup 4-16B” from 9 ppm to 10 ppm.

• Removing the time-limited tolerances from paragraph (b) for “Alfalfa, forage” at 6.0 ppm; “Alfalfa, hay” at 6.0 ppm; and “Lemon” at 0.8 ppm since the tolerances are expired.

• Modifying tolerances by removing trailing zeros to reflect current OECD rounding practices.

As discussed in Unit II.D., based on the supporting registration review documents, EPA has determined that the proposed amendments to the diflubenzuron tolerances would be safe, i.e., there is a reasonable certainty that no harm will result to the general population, or specifically to infants and children, from aggregate exposure to diflubenzuron residues. Adequate enforcement methodology is available.

C. 40 CFR 180.484; Flutolanil; Case 7010 (Docket ID No. EPA-HQ-OPP-2008-0148)

EPA is proposing to amend the current tolerances by:

• Revoking the tolerance from paragraph (a) for “Rice, hulls” at 25.0 ppm. During Registration Review it was determined that this tolerance should be removed since it is no longer considered a significant livestock feed item.

• Modifying tolerance values in paragraph (a) for “Peanut, hay” from 15.0 ppm to 20 ppm based on OECD tolerance calculation procedures on “Peanut, hay”, including residues from both band and broadcast applications.

• Modifying tolerance values in paragraph (a) for “Turnip greens” from 0.1 ppm to 0.2 ppm, and “Vegetable, brassica, leafy, group 5” from 0.1 ppm to 0.2 ppm based on reconsideration of previous recommendations, because detectable residues of parent were found in one field trial on mustard greens.

• Modifying tolerances by removing trailing zeros to reflect current OECD rounding practices.

As discussed in Unit II.D., based on the supporting registration review documents, EPA has determined that the proposed amendments to the flutolanil tolerances would be safe, i.e., there is a reasonable certainty that no harm will result to the general population, or specifically to infants and children, from aggregate exposure to flutolanil residues. Adequate enforcement methodology is available.

D. 40 CFR 180.537; Isoxaflutole; Case 7242 (Docket ID No. EPA-HQ-OPP-2010-0979)

EPA is proposing to amend the current tolerances by:

• Modifying the tolerance value for “Grain, aspirated fractions” by removing the trailing zero to reflect current OECD rounding practices.

As discussed in Unit II.D., based on the supporting registration review documents, EPA has determined that the proposed amendments to the isoxaflutole tolerances would be safe, i.e., there is a reasonable certainty that no harm will result to the general population, or specifically to infants and children, from aggregate exposure to isoxaflutole residues. Adequate enforcement methodology is available.

E. 40 CFR 180.587; Famoxadone; Case 7038 (Docket ID No. EPA-HQ-OPP-2015-0094)

EPA is proposing to amend the current tolerances by:

• Revising the tolerance expressions in paragraphs (a) and (c) for famoxadone to describe more clearly the scope or coverage of the tolerances and the method for measuring compliance. Consistent with EPA policy, the revised tolerance expressions would clarify that (1) as provided in FFDCA section 408(a)(3), the tolerances cover metabolites and degradates of famoxadone not specifically mentioned; and (2) compliance with the specified tolerance levels is to be determined by measuring the specific compounds mentioned in the tolerance expression. The revisions to the tolerance expressions would not substantively change the tolerances or, in any way, modify the permissible level of residues permitted by the tolerances.

• Where appropriate, it is the Agency's intention to harmonize U.S. tolerances with those international MRLs to facilitate trade. EPA has identified opportunities to harmonize with Codex MRLs for famoxadone and is proposing to increase the “Grape, raisin” tolerance from 4.0 ppm to 5 ppm.

• Revising the commodity definition in paragraph (a) from “Milk, fat (reflecting negligible residues in whole milk)” to “Milk, fat”. This revision of commodity definition will help facilitate efficient commodity searches and does not substantively change the tolerance or, in any way, modify the permissible level of residues in or on the commodity listed in the regulation.

• Updating existing crop group tolerances in paragraph (a) for residues of famoxadone: from “Vegetable, fruiting, group 8, except tomato” to the updated crop group “Vegetable, fruiting, group 8-10, except tomato” at the same residue levels; and from “Vegetable, leafy, except Brassica, group 4, except spinach” to the two updated crop groups “Leafy greens subgroup 4-16A, except spinach” and “Leaf petiole vegetable subgroup 22B” at the same residue levels. The Agency is proposing to establish tolerances for the commodities “Arugula”, “Cress, garden”, “Cress, upland”, “Celtuce”, and “Fennel, florence, fresh leaves and stalk” at 25 ppm that have been displaced by the updating of the current “Vegetable, fruiting, group 8, except tomato” and “Vegetable, leafy, except Brassica, group 4, except spinach” crop groups. Upon establishment of these new crop groups, and to prevent redundancy, the Agency proposes to remove tolerances that will be unnecessary once they are superseded by the tolerances established for the new crop group, including the tolerances for “Cilantro, leaves” that will now be covered under the updated crop grouping “Leafy greens subgroup 4-16A, except spinach”.

40 CFR 180.40(j) states that “At appropriate times, EPA will amend tolerances for crop groups that have been superseded by revised crop groups to conform the pre-existing crop group to the revised crop group.” EPA has indicated in updates to its crop group rulemakings that registration review is one of those appropriate times. See, e.g., Tolerance Crop Grouping Program V (85 FR 70985, November 6, 2020 (FRL-10015-19)).

• Modifying tolerance values in paragraph (a) for “Tomato”, “Grape, raisin”, and “Vegetable, cucurbit, group 9” by removing trailing zeros to reflect current OECD rounding practices.

As discussed in Unit II.D., based on the supporting registration review documents, EPA has determined that the proposed amendments to the famoxadone tolerances would be safe, i.e., there is a reasonable certainty that no harm will result to the general population, or specifically to infants and children, from aggregate exposure to famoxadone residues. Adequate enforcement methodology is available.

F. 40 CFR 180.610; Aminopyralid; Case 7267 (Docket ID No. EPA-HQ-OPP-2013-0749)

EPA is proposing to amend the current tolerances by:

• Modifying tolerance values for “Corn, field, forage”, “Corn, field, grain”, “Corn, field, stover”, “Wheat, forage”, and “Wheat, hay” by removing trailing zeros to reflect current OECD rounding practices. Additionally, modifying the tolerance values for “Wheat, straw” by rounding to the nearest tenth decimal to reflect current OECD rounding practice.

As discussed in Unit II.D, based on the supporting registration review documents, EPA has determined that the proposed amendments to the aminopyralid tolerances would be safe, i.e., there is a reasonable certainty that no harm will result to the general population, or specifically to infants and children, from aggregate exposure to aminopyralid residues. Adequate enforcement methodology is available.

G. 40 CFR 180.632; Fenazaquin; Case 7447 (Docket ID No. EPA-HQ-OPP-2020-0081)

EPA is proposing to amend the current tolerances by:

• Removing the tolerance from paragraph (a) for “Fruit, Citrus, Group 10 except Grapefruit” at 0.5 ppm, which has expired.

• Where appropriate, it is the Agency's intention to harmonize U.S. tolerances with those international MRLs to facilitate trade. EPA has identified opportunities to harmonize with Japanese MRLs for fenazaquin and is proposing to increase the “Tea, dried” tolerance from 9 ppm to 10 ppm and to establish a “Tea, instant” tolerance at 10 ppm.

As discussed in Unit II.D., based on the supporting registration review documents, EPA has determined that the proposed amendments to the fenazaquin tolerances would be safe, i.e., there is a reasonable certainty that no harm will result to the general population, or specifically to infants and children, from aggregate exposure to fenazaquin residues. Adequate enforcement methodology is available.

H. 40 CFR 180.634; Tembotrione; Case 7273 (Docket ID No. EPA-HQ-OPP-2016-0063)

EPA is proposing to amend the current tolerances by:

• Modifying tolerances by removing trailing zeros to reflect current OECD rounding practices.

As discussed in Unit II.D., based on the supporting registration review documents, EPA has determined that the proposed amendments to the tembotrione tolerances would be safe, i.e., there is a reasonable certainty that no harm will result to the general population, or specifically to infants and children, from aggregate exposure to tembotrione residues. Adequate enforcement methodology is available.

IV. Proposed Effective and Expiration Date(s)

EPA is proposing that these tolerance actions would be effective on the date of publication of the final rule in the Federal Register. For actions in the final rule that lower or revoke existing tolerances, EPA is proposing to add an expiration date to the existing tolerance that is six months after the date of publication of the final rule in the Federal Register, to allow a reasonable interval for producers in exporting members of the World Trade Organization's Sanitary and Phytosanitary Measures Agreement to adapt to the requirements.

V. Statutory and Executive Order Reviews

Additional information about these statutes and Executive Orders can be found at https://www.epa.gov/laws-regulations/laws-and-executive-orders.

A. Executive Order 12866: Regulatory Planning and Review

This action is exempt from review under Executive Order 12866 (58 FR 51735, October 4, 1993), because it proposes to establish or modify a pesticide tolerance or a tolerance exemption under FFDCA section 408. This exemption also applies to tolerance revocations for which extraordinary circumstances do not exist. As such, this exemption applies to the tolerance revocations in this proposed rule because the Agency knows of no extraordinary circumstances that warrant reconsideration of this exemption for those proposed tolerance revocations.

B. Executive Order 14192: Unleashing Prosperity Through Deregulation

Executive Order 14192 (90 FR 9065, February 6, 2025) does not apply because actions that establish a tolerance under FFDCA section 408 are exempted from review under Executive Order 12866.

C. Paperwork Reduction Act (PRA)

This action does not impose an information collection burden under the PRA 44 U.S.C. 3501 et seq., because it does not contain any information collection activities.

D. Regulatory Flexibility Act (RFA)

I certify that this action will not have a significant economic impact on a substantial number of small entities under the RFA, 5 U.S.C. 601 et seq. In making this determination, EPA concludes that the impact of concern for this action is any significant adverse economic impact on small entities and that the Agency is certifying that this action will not have a significant economic impact on a substantial number of small entities because the action has no net burden on small entities subject to this rulemaking. This determination takes into account an EPA analysis for tolerance establishments and modifications that published in the Federal Register of May 4, 1981 (46 FR 24950 (FRL-1809-5)) and for tolerance revocations on December 17, 1997 (62 FR 66020 (FRL-5753-1)). Additionally, in a 2001 memorandum, EPA determined that eight conditions must all be satisfied in order for an import tolerance or tolerance exemption revocation to adversely affect a significant number of small entity importers, and that there is a negligible joint probability of all eight conditions holding simultaneously with respect to any particular revocation. See Memorandum from Denise Keehner, Division Director, Biological and Economic Analysis Division, Office of Pesticide Programs, entitled “RFA/SBREFA Certification for Import Tolerance Revocation” and dated May 25, 2001, which is available in docket ID No. EPA-HQ-OPP-2005-0322 at https://www.regulations.gov.

For the pesticides named in this rulemaking, EPA concludes that there is no reasonable expectation that residues of the pesticides for tolerances listed in this rulemaking for revocation will be found on the commodities discussed in this rulemaking, and the Agency knows of no extraordinary circumstances that exist as to the present proposed rule that would change EPA's previous analyses.

Any comments about the Agency's determination for this rulemaking should be submitted to EPA along with comments on the proposed rule and will be addressed in the final rule.

E. Unfunded Mandates Reform Act (UMRA)

This action does not contain an unfunded mandate of $100 million or more (in 1995 dollars and adjusted annually for inflation) as described in UMRA, 2 U.S.C. 1531-1538, and does not significantly or uniquely affect small governments. The action imposes no enforceable duty on any state, local or tribal governments or the private sector.

F. Executive Order 13132: Federalism

This action does not have federalism implications as specified in Executive Order 13132 (64 FR 43255, August 10, 1999), because it will not have substantial direct effects on the states, on the relationship between the national government and the states, or on the distribution of power and responsibilities among the various levels of government.

G. Executive Order 13175: Consultation and Coordination With Indian Tribal Governments

This action does not have tribal implications as specified in Executive Order 13175 (65 FR 67249, November 9, 2000), because it will not have substantial direct effects on tribal governments, on the relationship between the Federal government and the Indian tribes, or on the distribution of power and responsibilities between the Federal government and Indian tribes.

H. Executive Order 13045: Protection of Children From Environmental Health Risks and Safety Risks

This action is not subject to Executive Order 13045 (62 FR 19885, April 23, 1997) because it is not a significant regulatory action under section 3(f)(1) of Executive Order 12866 (See Unit V.A.), and because EPA does not believe the environmental health or safety risks addressed by this action present a disproportionate risk to children. However, EPA's 2021 Policy on Children's Health applies to this action.

This rulemaking proposes tolerance actions under the FFDCA, which requires EPA to give special consideration to exposure of infants and children to the pesticide chemical residue in establishing a tolerance and to “ensure that there is a reasonable certainty that no harm will result to infants and children from aggregate exposure to the pesticide chemical residue . . .” (FFDCA 408(b)(2)(C)). The Agency's consideration is documented in the pesticide-specific registration review documents, located in each chemical docket at https://www.regulations.gov.

I. Executive Order 13211: Actions Concerning Regulations That Significantly Affect Energy Supply, Distribution or Use

This action is not subject to Executive Order 13211 (66 FR 28355, May 22, 2001) because it is not a significant regulatory action under Executive Order 12866.

J. National Technology Transfer Advancement Act (NTTAA)

This action does not involve technical standards that would require Agency consideration under NTTAA section 12(d), 15 U.S.C. 272.

List of Subjects in 40 CFR Part 180

Environmental protection, Administrative practice and procedure, Agricultural commodities, Pesticides and pests, Reporting and recordkeeping requirements.

Dated: May 13, 2025.
Edward Messina,
Director, Office of Pesticide Programs.

For the reasons set forth in the preamble, EPA is proposing to amend 40 CFR chapter I as follows:

PART 180—TOLERANCES AND EXEMPTIONS FOR PESTICIDE CHEMICAL RESIDUES IN FOOD

1. The authority citation for part 180 continues to read as follows:

Authority: 21 U.S.C. 321(q), 346a and 371.

2. Amend § 180.190 by revising and republishing paragraph (a) to read as follows:

§ 180.190 Diphenylamine; tolerances for residues.

(a) General. Tolerances are established for residues of diphenylamine, including its metabolites and degradates, in or on the commodities in Table 1 to Paragraph (a). Compliance with the tolerance levels specified in Table 1 to Paragraph (a) is to be determined by measuring only diphenylamine, in or on the commodity.

Table 1 to Paragraph (a)
Commodity | Parts per million
Apple | 10
Apple, wet pomace | 30
Pear | 5

* * * * *

3. Amend § 180.377 by:

a. Revising and republishing the table in paragraph (a)(1);

b. Revising and republishing the table in paragraph (a)(2);

c. Removing and reserving paragraph (b); and

d. Revising and republishing the table in paragraph (c).

The revisions and additions read as follows:

§ 180.377 Diflubenzuron; tolerances for residues.

(a) * * *

(1) * * *

Table 1 to Paragraph (a)
Commodity | Parts per million
Artichoke, globe | 6
Cattle, fat | 0.1
Cattle, meat | 0.1
Cotton, gin byproducts | 30
Cottonseed subgroup 20C | 0.2
Egg | 0.07
Goat, fat | 0.1
Goat, meat | 0.1
Hog, fat | 0.1
Hog, meat | 0.1
Horse, fat | 0.1
Horse, meat | 0.1
Milk | 0.05
Mushroom | 8
Poultry, fat | 0.1
Poultry, meat byproducts | 0.08
Poultry, meat | 0.05
Sheep, fat | 0.1
Sheep, meat | 0.1
Soybean, seed | 0.05
Soybean, hulls | 0.5

(2) * * *

Table 2 to Paragraph (a)(2)
Commodity | Parts per million
Almond, hulls | 6
Barley, grain | 0.06
Barley, hay | 3
Barley, straw | 1.8
Brassica, leafy greens, subgroup 4-16B | 10
Carrot, roots | 0.2
Cattle, meat byproducts | 0.15
Fruit, citrus, group 10-10, oil | 32
Fruit, citrus, group 10-10 | 3
Goat, meat byproducts | 0.15
Grain, aspirated fractions | 11
Grass, forage, fodder and hay, group 17 | 6
Hog, meat byproducts | 0.15
Horse, meat byproducts | 0.15
Oat, forage | 7
Oat, grain | 0.06
Oat, hay | 6
Oat, straw | 3.5
Peanut | 0.1
Peanut, hay | 55
Peanut, refined oil | 0.2
Peach subgroup 12-12B | 0.5
Pear | 0.5
Pepper/eggplant subgroup 8-10B | 1
Plum subgroup 12-12C | 0.5
Nut, tree, group 14-12 | 0.2
Rice, grain | 0.02
Sheep, meat byproducts | 0.15
Turnip greens | 9
Wheat, forage | 7
Wheat, grain | 0.06
Wheat, hay | 6
Wheat, straw | 3.5

(b) [Reserved]

(c) * * *

Table 3 to Paragraph (c)
Commodity | Parts per million
Alfalfa, forage | 6
Alfalfa, hay | 20
Alfalfa, seed | 0.9

* * * * *

4. Amend § 180.484 by:

a. Revising and republishing the table in paragraph (a); and

b. Revising the table in paragraph (d) by adding the heading “Table 2 to Paragraph (d)” and revising the entries for “Wheat, bran” and “Wheat, straw”.

The revisions and additions read as follows:

§ 180.484 Flutolanil; tolerances for residues.

(a) * * *

Table 1 to Paragraph (a)
Commodity | Parts per million
Cattle, fat | 0.1
Cattle, kidney | 1
Cattle, liver | 2
Cattle, meat byproducts | 0.05
Cattle, meat | 0.05
Cotton, gin byproducts | 0.2
Cotton, undelinted seed | 0.2
Egg | 0.05
Goat, fat | 0.1
Goat, kidney | 1
Goat, liver | 2
Goat, meat byproducts | 0.05
Goat, meat | 0.05
Hog, fat | 0.1
Hog, kidney | 1
Hog, liver | 2
Hog, meat byproducts | 0.05
Hog, meat | 0.05
Horse, fat | 0.1
Horse, kidney | 1
Horse, liver | 2
Horse, meat byproducts | 0.05
Horse, meat | 0.05
Milk | 0.05
Peanut | 0.5
Peanut, hay | 20
Peanut, meal | 1
Potato | 0.2
Potato, wet peel | 0.3
Poultry, fat | 0.05
Poultry, meat | 0.05
Poultry meat byproducts | 0.05
Rice, bran | 10
Rice, grain | 7
Sheep, fat | 0.1
Sheep, kidney | 1
Sheep, liver | 2
Sheep, meat | 0.05
Sheep, meat byproducts | 0.05
Soybean, forage | 8
Soybean, hay | 2.5
Soybean, seed | 0.2
Turnip greens | 0.2
Vegetable, brassica, leafy, group 5 | 0.2

* * * * *

(d) * * *

Table 2 to Paragraph (d)
Commodity | Parts per million
Wheat, bran | 0.2
* * * * *
Wheat, straw | 0.2

* * * * *

5. Amend § 180.537(a) by adding the table heading “Table 1 to Paragraph (a)” and revising the entry for “Grain, aspirated fractions” to read as follows:

§ 180.537 Isoxaflutole; tolerances for residues.

(a) * * *

Table 1 to Paragraph (a)
Commodity | Parts per million
* * * * *
Grain, aspirated fractions | 0.3
* * * * *

* * * * *

6. Amend § 180.587 by:

a. Revising and republishing paragraph (a);

b. Revising the introductory text in paragraph (c); and

c. Adding the table heading “Table 2 to Paragraph (c)” to the table in paragraph (c).

The revisions and additions read as follows:

§ 180.587 Famoxadone; tolerances for residues.

(a) General. Tolerances are established for residues of the fungicide famoxadone, including its metabolites and degradates, in or on the commodities listed in Table 1 to Paragraph (a). Compliance with the tolerance levels specified in Table 1 to Paragraph (a) is to be determined by measuring only famoxadone (5-methyl-5-(4-phenoxyphenyl)-3-(phenylamino)-2,4-oxazolidinedione) in or on the commodity.

Table 1 to Paragraph (a)
Commodity | Parts per million
Arugula | 25
Caneberry subgroup 13-07A | 10
Cattle, fat | 0.02
Cattle, liver | 0.05
Celtuce | 25
Cress, garden | 25
Cress, upland | 25
Fennel, florence, fresh leaves and stalk | 25
Goat, fat | 0.02
Goat, liver | 0.05
Grape, raisin ¹ | 5
Hop, dried cone | 80
Horse, fat | 0.02
Horse, liver | 0.05
Leaf petiole vegetable subgroup 22B | 25
Leafy greens subgroup 4-16A, except spinach | 25
Milk, fat | 0.06
Onion, bulb, subgroup 3-07A | 0.45
Onion, green, subgroup 3-07B | 40
Potato | 0.02
Sheep, fat | 0.02
Sheep, liver | 0.05
Spinach | 50
Tomato | 1
Vegetable, cucurbit, group 9 | 0.3
Vegetable, fruiting, group 8-10, except tomato | 4
¹ There are no U.S. registrations as of May 15, 2003.

* * * * *

(c) Tolerances with regional registrations. Tolerances with a regional registration as defined in § 180.1(l) are established for residues of the fungicide famoxadone, including its metabolites and degradates, in or on the commodities listed in Table 2 to Paragraph (c). Compliance with the tolerance levels specified in Table 2 to Paragraph (c) is to be determined by measuring only famoxadone (5-methyl-5-(4-phenoxyphenyl)-3-(phenylamino)-2,4-oxazolidinedione) in or on the commodity.

Table 2 to Paragraph (c)

* * * * *

7. Amend § 180.610 by:

a. Adding the table heading “Table 1 to Paragraph (a)(1)” to the table in paragraph (a)(1);

b. Amending the table in paragraph (a)(1) by revising the tolerance entries for “Corn, field, forage”, “Corn, field, grain”, “Corn, field, stover”, “Wheat, forage”, “Wheat, hay”, and “Wheat, straw”; and

c. Adding the table heading “Table 2 to Paragraph (a)(2)” to the table in paragraph (a)(2).

The revisions and additions read as follows:

§ 180.610 Aminopyralid; tolerances for residues.

(a) * * *

(1) * * *

Table 1 to Paragraph (a)(1)
Commodity | Parts per million
Corn, field, forage | 0.3
Corn, field, grain | 0.2
Corn, field, stover | 0.2
* * * * *
Wheat, forage | 2
* * * * *
Wheat, hay | 4
Wheat, straw | 0.3

(2) * * *

Table 2 to Paragraph (a)(2)

* * * * *

8. Amend § 180.632 by amending the table in paragraph (a) by:

a. Adding the table heading “Table 1 to Paragraph (a)” to the table;

b. Removing the entry “Fruit, Citrus, Group 10 except Grapefruit”;

c. Revising the entry “Tea, dried”;

d. Adding the entry “Tea, instant”;

e. Revising footnote 1; and

f. Removing footnote 2.

The revisions and additions read as follows:

§ 180.632 Fenazaquin; tolerances for residues.

(a) * * *

Table 1 to Paragraph (a)
Commodity | Parts per million
* * * * *
Tea, dried ¹ | 10
Tea, instant ¹ | 10
* * * * *
¹ There are no U.S. registrations.

* * * * *

9. Amend § 180.634 by:

a. Adding the table heading “Table 1 to Paragraph (a)(1)”;

b. In the table in paragraph (a)(1), by revising the entries for “Cattle, liver”, “Corn, field, forage”, “Corn, sweet, stover”, “Goat, liver”, “Horse, liver”, and “Sheep, liver”;

c. Adding table heading “Table 2 to Paragraph (a)(2)” in paragraph (a)(2).

The revisions and additions read as follows:

§ 180.634 Tembotrione; tolerances for residues.

(a) * * *

(1) * * *

Table 1 to Paragraph (a)(1)
Commodity | Parts per million
Cattle, liver | 0.4
* * * * *
Corn, field, forage | 0.6
* * * * *
Corn, sweet, stover | 0.6
Goat, liver | 0.4
* * * * *
Horse, liver | 0.4
* * * * *
Sheep, liver | 0.4
* * * * *

(2) * * *

Table 2 to Paragraph (a)(2)

* * * * *

[FR Doc. 2025-09108 Filed 5-21-25; 8:45 am]

BILLING CODE 6560-50-P